DEPARTMENT OF TRANSPORTATION

Federal Motor Carrier Safety Administration

[Docket No. FMCSA-2006-26367]

Motor Carrier Safety Advisory Committee (MCSAC); Public Meeting

AGENCY: Federal Motor Carrier Safety Administration (FMCSA), DOT.

ACTION: Notice of advisory committee meeting.

SUMMARY: FMCSA announces a meeting of the MCSAC.

DATES: The meeting will be held Monday, September 30 and Tuesday, October 1, 2019, from 9:15 a.m. to 4:30 p.m., Eastern Daylight Time (EDT).

ADDRESSES: This meeting will be held at the U.S. Department of Transportation, Oklahoma City Rooms A, B, and C, 1200 New Jersey Avenue SE, Washington, DC 20590. Copies of the MCSAC Task Statements and an agenda for the entire meeting will be made available in advance of the meeting at https://www.fmcsa.dot.gov/mcsac.

FOR FURTHER INFORMATION CONTACT: Ms. Shannon L. Watson, Senior Advisor to the Associate Administrator for Policy, Federal Motor Carrier Safety Administration, U.S. Department of Transportation, at (202) 385-2395, or via email at mcsac@dot.gov.

Services for Individuals with Disabilities: For information on facilities or services for individuals with disabilities or to request special assistance at the meeting, contact Ms. Watson by Friday, September 6, 2019.

SUPPLEMENTARY INFORMATION:

I. Background

Purpose of the Committee

MCSAC was established to provide FMCSA with advice and recommendations on motor carrier safety programs and motor carrier safety regulations. MCSAC is composed of up to 20 voting representatives from safety advocacy, safety enforcement, labor, and industry stakeholders of motor carrier safety. The diversity of the Committee ensures the requisite range of views and expertise necessary to discharge its responsibilities. The Committee operates as a discretionary committee under the authority of the U.S. Department of Transportation (DOT), established in accordance with the provisions of the Federal Advisory Committee Act (FACA), as amended, 5 U.S.C. App. 2. See FMCSA's MCSAC website for additional information about the committee's activities at https://www.fmcsa.dot.gov/mcsac.

Meeting Agenda

The MCSAC will return to the topic of Automated Driving Systems (ADS) for commercial vehicles, for which it made preliminary recommendations at its last meeting in July 2018. Given the Department's publication of its ADS 3.0 document subsequent to that meeting and other developments in the Agency's ADS efforts, the Agency tasks the MCSAC with providing specific recommendations on regulatory provisions the Agency should revise, workforce issues, and other concerns the Agency should consider and address in a potential rulemaking. A complete agenda for the meeting will be posted in advance at www.fmcsa.dot.gov/mcsac.

II. Meeting Participation

The meeting will be open to the public for its entirety. Oral comments from the public will be heard throughout the meeting, at the discretion of the MCSAC chairman and designated federal officer. Members of the public may submit written comments on the topics to be considered during the meeting by Friday, September 6, 2019, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE, Room W12-140, Washington, DC 20590.

• Hand Delivery: U.S. Department of Transportation, 1200 New Jersey Avenue SE, West Building, Room W12-140, Washington, DC, between 9 a.m. and 5 p.m., E.T. Monday through Friday, except Federal holidays.

Issued on: August 21, 2019.
Larry W. Minor,
Associate Administrator for Policy.

[FR Doc. 2019-18578 Filed 8-27-19; 8:45 am]

BILLING CODE 4910-EX-P